DEPARTMENT OF VETERANS AFFAIRS

[OMB Control No. 2900-0823]

Expanded Access to Non-VA Care Through the Veterans Choice Program Activities: Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before June 15, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0823 (Expanded Access to Non-VA Care through the Veterans Choice Program)” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0823 (Expanded Access to Non-VA Care through the Veterans Choice Program)” in any correspondence.

SUPPLEMENTARY INFORMATION: Under the PRA of 1995 (Public Law 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Election to Receive Authorized Non-VA Care and Selection of Provider for the Veterans Choice Program.

OMB Control Number: 2900-0823.

Type of Review: Extension.

Abstract: Section 17.1515 requires eligible veterans to notify VA whether the veteran elects to receive authorized non-VA care through the Veterans Choice Program, be placed on an electronic waiting list, or be scheduled for an appointment with a VA health care provider. Section 17.1515(b)(1) also allows eligible veterans to specify a particular non-VA entity or health care provider, if that entity or provider meets certain requirements.

Affected Public: Individuals or Households.

Estimated Annual Burden: 185,721 burden hours.

Estimated Average Burden per Respondent: 2 minutes.

Frequency of Response: 12.64 times per year.

Estimated Number of Respondents: 440,794 respondents.

Titles: Health-Care Plan Information for the Veterans Choice Program.

OMB Control Number: 2900-0823.

Type of Review: Extension.

Abstract: Section 17.1510(d) requires eligible veterans to submit to VA information about their health-care plan to participate in the Veterans Choice Program.

Affected Public: Individuals or Households.

Estimated Annual Burden: 88,159 burden hours.

Estimated Average Burden per Respondent: 10 minutes.

Frequency of Response: 1.2 times per year.

Estimated Number of Respondents: 440,794 respondents.

Titles: Submission of Medical Record Information under the Veterans Choice Program.

OMB Control Number: 2900-0823.

Type of Review: Extension.

Abstract: Participating eligible entities and providers are required to submit a copy of any medical record related to hospital care or medical services furnished under this Program to an eligible veteran.

Affected Public: Individuals or Households.

Estimated Annual Burden: 464,428 burden hours.

Estimated Average Burden per Respondent: 5 minutes.

Frequency of Response: 29.80 times per year.

Estimated Number of Respondents: 187,000 respondents.

Titles: Submission of Information on Credentials and Licenses by Eligible Entities or Providers.

OMB Control Number: 2900-0823.

Type of Review: Extension.

Abstract: Section 17.1530 requires eligible entities and providers to submit verification that the entity or provider maintains at least the same or similar credentials and licenses as those required of VA's health care providers, as determined by the Secretary.

An agency may not conduct or sponsor, and a person is not required to respond to a collection of information unless it displays a currently valid OMB control number. The Federal Register Notice with a 60-day comment period soliciting comments on this collection of information was published at 80 FR 8950, February 19, 2015.

Affected Public: Individuals or Households.

Estimated Annual Burden: 15,583 burden hours.

Estimated Average Burden per Respondent: 5 minutes.

Frequency of Response: Once annually.

Estimated Number of Respondents: 187,000 respondents.

By direction of the Secretary:
Crystal Rennie,
VA Clearance Officer, Department of Veterans Affairs.

[FR Doc. 2015-11678 Filed 5-14-15; 8:45 am]

BILLING CODE 8320-01-P